DEPARTMENT OF HOMELAND SECURITY

Coast Guard

33 CFR Parts 1, 27, 96, 101, 107, 115, 117, 135, 140, 148, 150, 151, 160, 161, 162, 164, 166, 167, and 169

[Docket No. USCG-2011-0257]

RIN 1625-AB69

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable water regulations. This rule will have no substantive effect on the regulated public. These changes are provided to coincide with the annual recodification of Title 33 on July 1, 2011.

DATES: This final rule is effective June 2, 2011.

ADDRESSES: Comments and material received from the public, as well as documents mentioned in this preamble as being available in the docket, are part of docket USCG-2011-0257 and are available for inspection or copying at the Docket Management Facility (M-30), U.S. Department of Transportation, West Building Ground Floor, Room W12-140, 1200 New Jersey Avenue SE, Washington, DC 20590, between 9 a.m. and 5 p.m., Monday through Friday, except Federal holidays. You may also find this docket on the Internet by going to http://www.regulations.gov, inserting USCG-2011-0257 in the “Keyword” box, and then clicking “Search.”

FOR FURTHER INFORMATION CONTACT: If you have questions on this rule, call or e-mail Leo Huott, Coast Guard; telephone 202-372-1027, e-mail Leo.S.Huott@uscg.mil. If you have questions on viewing the docket, call Renee V. Wright, Program Manager, Docket Operations, telephone 202-366-9826.

SUPPLEMENTARY INFORMATION:

Table of Contents for Preamble

I. Regulatory History

II. Background

III. Basis and Purpose

IV. Regulatory Analyses

A. Regulatory Planning and Review

B. Small Entities

C. Collection of Information

D. Federalism

E. Unfunded Mandates Reform Act

F. Taking of Private Property

G. Civil Justice Reform

H. Protection of Children

I. Indian Tribal Governments

J. Energy Effects

K. Technical Standards

L. Environment

I. Regulatory History

We did not publish a notice of proposed rulemaking (NPRM) for this rule. Under 5 U.S.C. 553(b)(A) the Coast Guard finds this rule is exempt from notice and comment rulemaking requirements because these changes involve rules of agency organization, procedure, or practice. In addition, the Coast Guard finds notice and comment procedures are unnecessary under 5 U.S.C. 553(b)(B) as this rule consists only of corrections and editorial, organizational, and conforming amendments and these changes will have no substantive effect on the public. Under 5 U.S.C. 553(d)(3), the Coast Guard finds that, for the same reasons, good cause exists for making this rule effective upon publication in the Federal Register.

II. Background

Each year, the printed edition of Title 33 of the Code of Federal Regulations is recodified on July 1. This rule, which becomes effective June 2, 2011, makes technical and editorial corrections throughout Title 33. This rule does not create any substantive requirements.

III. Basis and Purpose

This rule amends 33 CFR part 1 to reflect changes in agency organization by removing § 1.01-60(a)(1)(ii) and combining § 1.01-60(a)(1)(i) with § 1.01-60(a)(1). Because the Coast Guard is no longer a component of the Department of Transportation (DOT), DOT Order 5610.1C (Procedures for Considering Environmental Impacts) no longer applies.

This rule revises 33 CFR part 27. The Coast Guard is adjusting fines and other civil monetary penalties to reflect the impact of inflation. These adjustments are made in accordance with the Federal Civil Penalties Inflation Adjustment Act of 1990, as amended by the Debt Collection Improvement Act of 1996, and implement the provisions of these statutes. These statutes require the Coast Guard to periodically adjust the civil monetary penalties for inflation by a method that is specifically prescribed within these statutes and which allows no discretion. The statutory method specifies the inflation measure to be used, the method for the calculation of the inflation adjustment, and the method for the numerical rounding of the results. The last inflation adjustments were made in 2010.

The changes in Civil Penalties for calendar year 2011 are based on the change in CPI-U from June 2009 to June 2010. The recorded change in CPI-U during that period was 1.05%. Because of the small change in CPI-U and the required rules for rounding, there was no change to any of the maximum penalty amounts from the previous adjustment.

This rule amends § 115.05 by replacing the term “builder” with the term “applicant” to clarify the Coast Guard's intent and make the affected provision consistent with other provisions in this section and other sections of part 115. This rule also corrects grammatical errors and details established requirements regarding the information needed on the plan sheets that accompany a bridge permit request. This rule removes § 115.50(d) because the information it provides is already explained throughout the section.

This rule amends 33 CFR part 117 to correct the names of the S14 Bridge and the S1 Bridge and to provide an updated phone number to the Kansas City Southern automated bridge. Also “Pelican Island Causeway” is removed from the title of § 117.977 and the section is redesignated to follow the alphabetical order of state waterways set out in this subpart.

This rule amends parts 135, 140, 148, and 150 of Title 33 with an organizational name change from the Minerals Management Service (MMS) to the Bureau of Ocean Energy Management Regulation and Enforcement (BOEMRE).

This rule amends paragraph 161.15(a) to correct a typographical error that erroneously omitted the words “within a”. The correction to the section is not substantive and does not impose any new requirement, but clarifies the meaning of this portion of part 161.

This rule amends 33 CFR part 164 to remove LORAN C from the list of options for vessel electronic position fixing devices. Removing LORAN C from 33 CFR part 164 will have no substantive effect on the public because the use of LORAN C has not been supported by the Coast Guard since February 2010, and this section is no longer applicable.

This rule amends Title 33 to correct latitude/longitude coordinates of the Galveston Entrance Anchorage Areas in part 166 and the Chesapeake Bay: Eastern approach in part 167.

This rule amends Title 33 to update internal Coast Guard office designations as well as certain personnel titles. Changes in personnel titles included in this rule are only technical revisions reflecting changes in agency procedure and organization, and do not indicate new authorities.

This rule amends Title 33 to update various physical addresses for Coast Guard offices as well as those offices' contact information.

Finally, this rule corrects non-substantive, typographical errors throughout Title 33.

IV. Regulatory Analyses

We developed this rule after considering numerous statutes and executive orders related to rulemaking. Below we summarize our analyses based on 13 of these statutes or executive orders.

A. Regulatory Planning and Review

This rule is not a significant regulatory action under section 3(f) of Executive Order 12866, Regulatory Planning and Review, and does not require an assessment of potential costs and benefits under section 6(a)(3) of that Order. The Office of Management and Budget has not reviewed it under that Order. Because this rule involves non-substantive changes and internal agency practices and procedures, it will not impose any additional costs on the public.

B. Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

We estimate that the cost of this rule is minimal and should have little or no impact on small entities because the provisions of this rule are technical and non-substantive, and will have no substantive effect on the public and will impose no additional costs. Therefore, the Coast Guard certifies under 5 U.S.C. 605(b) that this final rule will not have a significant economic impact on a substantial number of small entities.

C. Collection of Information

This rule calls for no new collection of information under the Paperwork Reduction Act of 1995 (44 U.S.C. 3501-3520).

D. Federalism

A rule has implications for federalism under Executive Order 13132, Federalism, if it has a substantial direct effect on State or local governments and would either preempt State law or impose a substantial direct cost of compliance on them. We have analyzed this rule under that Order and have determined that it does not have implications for federalism.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Taking of Private Property

This rule will not cause a taking of private property or otherwise have taking implications under Executive Order 12630, Governmental Actions and Interference with Constitutionally Protected Property Rights.

G. Civil Justice Reform

This rule meets applicable standards in sections 3(a) and 3(b)(2) of Executive Order 12988, Civil Justice Reform, to minimize litigation, eliminates ambiguity, and reduces burden.

H. Protection of Children

We have analyzed this rule under Executive Order 13045, Protection of Children from Environmental Health Risks and Safety Risks. This rule is not an economically significant rule and does not create an environmental risk to health or risk to safety that may disproportionately affect children.

I. Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

J. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

K. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

L. Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded under section 2.B.2, figure 2-1, paragraph (34)(a) of the Instruction. This rule involves regulations which are editorial, procedural, such as those updating addresses or establishing application procedures. An environmental analysis checklist and a categorical exclusion determination are available in the docket where indicated under ADDRESSES.

List of Subjects

33 CFR Part 1

Administrative practice and procedure, Authority delegations (Government agencies), Freedom of information, Penalties.

33 CFR Part 27

Administrative practice and procedure, Penalties.

33 CFR Part 96

Administrative practice and procedure, Marine safety, Reporting and recordkeeping requirements, Vessels.

33 CFR Part 101

Harbors, Maritime security, Reporting and recordkeeping requirements, Security measures, Vessels, Waterways.

33 CFR Part 107

Harbors, Facilities, Marine safety, Maritime security, Navigation (water), Reporting and recordkeeping requirements, Security measures, Vessels, Waterways.

33 CFR Part 115

Administrative practice and procedure, Bridges, Reporting and recordkeeping requirements.

33 CFR Part 117

Bridges.

33 CFR Part 135

Administrative practice and procedure, Continental shelf, Insurance, Oil pollution, Reporting and recordkeeping requirements.

33 CFR Part 140

Continental shelf, Investigations, Marine safety, Occupational safety and health, Penalties, Reporting and recordkeeping requirements.

33 CFR Part 148

Administrative practice and procedure, Environmental protection, Harbors, Petroleum.

33 CFR Part 150

Harbors, Marine safety, Navigation (water), Occupational safety and health, Oil pollution, Reporting and recordkeeping requirements.

33 CFR Part 151

Administrative practice and procedure, Oil pollution Penalties, Reporting and recordkeeping requirements, Water pollution control.

33 CFR Part 160

Administrative practice and procedure, Harbors, Hazardous materials transportation, Marine safety, Navigation (water), Reporting and recordkeeping requirements, Vessels, Waterways.

33 CFR Part 161

Harbors, Navigation (water), Reporting and recordkeeping requirements, Vessels, Waterways.

33 CFR Part 162

Navigation (water), Waterways.

33 CFR Part 164

Marine safety, Navigation (water), Reporting and recordkeeping requirements, Waterways.

33 CFR Part 166

Anchorage grounds, Marine safety, Navigation (water), Waterways.

33 CFR Part 167

Harbors, Marine safety, Navigation (water), Waterways.

33 CFR Part 169

Endangered and threatened species, Marine mammals, Navigation (water), Radio, Reporting and recordkeeping requirements, Vessels, Water pollution control.

For the reasons discussed in the preamble, the Coast Guard amends 33 CFR parts 1, 27, 96, 101, 107, 115, 117, 135, 140, 148, 150, 151, 160, 161, 162, 164, 166, 167, and 169.

PART 1—GENERAL PROVISIONS

1. The authority citation for part 1 continues to read as follows:

Authority: 14 U.S.C. 633; 33 U.S.C. 401, 491, 525, 1321, 2716, and 2716a; 42 U.S.C. 9615; 49 U.S.C. 322; Department of Homeland Security Delegation No. 0170.1; section 1.01-70 also issued under the authority of E.O. 12580, 3 CFR, 1987 Comp., p. 193; and sections 1.01-80 and 1.01-85 also issued under the authority of E.O. 12777, 3 CFR, 1991 Comp., p. 351.

2. In § 1.01-60, revise paragraph (a)(1) to read as follows:

§ 1.01-60 Delegations for issuance of bridge permits.

(a) * * *

(1) Those that require an environmental assessment or environmental impact statement under the National Environmental Policy Act of 1969, as amended, (42 U.S.C. 4321 et seq.) and all implementing regulations, orders, and instructions.

* * * * *

PART 27—ADJUSTMENT OF CIVIL MONETARY PENALTIES FOR INFLATION

3. The authority citation for part 27 continues to read as follows:

Authority: Secs. 1-6, Public Law 101-410, 104 Stat. 890, as amended by Sec. 31001(s)(1), Public Law 104-134, 110 Stat. 1321 (28 U.S.C. 2461 note); Department of Homeland Security Delegation No. 0170.1, sec. 2 (106).

4. Revise § 27.3 to read as follows:

§ 27.3 Penalty Adjustment Table.

Table 1 identifies the statutes administered by the Coast Guard that authorize a civil monetary penalty. The “adjusted maximum penalty” is the maximum penalty authorized by the Federal Civil Penalties Inflation Adjustment Act of 1990, as amended, as determined by the Coast Guard.

Table 1—Civil Monetary Penalty Inflation Adjustments
U.S. Code citation | Civil monetary penalty description | 2011 Adjusted maximum penalty amount ($)
14 U.S.C. 88(c) | Saving Life and Property | 8,000
14 U.S.C. 645(i) | Confidentiality of Medical Quality Assurance Records (first offense) | 4,000
14 U.S.C. 645(i) | Confidentiality of Medical Quality Assurance Records (subsequent offenses) | 30,000
16 U.S.C. 4711(g)(1) | Aquatic Nuisance Species in Waters of the United States | 35,000
19 U.S.C. 70 | Obstruction of Revenue Officers by Masters of Vessels | 3,000
19 U.S.C. 70 | Obstruction of Revenue Officers by Masters of Vessels—Minimum Penalty | 700
19 U.S.C. 1581(d) | Failure to Stop Vessel When Directed; Master, Owner, Operator or Person in Charge (1) | 5,000
19 U.S.C. 1581(d) | Failure to Stop Vessel When Directed; Master, Owner, Operator or Person in Charge—Minimum Penalty (1) | 1,000
33 U.S.C. 471 | Anchorage Ground/Harbor Regulations General | 110
33 U.S.C. 474 | Anchorage Ground/Harbor Regulations St. Mary's river | 300
33 U.S.C. 495(b) | Bridges/Failure to Comply with Regulations (2) | 25,000
33 U.S.C. 499(c) | Bridges/Drawbridges (2) | 25,000
33 U.S.C. 502(c) | Bridges/Failure to Alter Bridge Obstructing Navigation (2) | 25,000
33 U.S.C. 533(b) | Bridges/Maintenance and Operation (2) | 25,000
33 U.S.C. 1208(a) | Bridge to Bridge Communication; Master, Person in Charge or Pilot | 800
33 U.S.C. 1208(b) | Bridge to Bridge Communication; Vessel | 800
33 U.S.C. 1232(a) | PWSA Regulations | 40,000
33 U.S.C. 1236(b) | Vessel Navigation: Regattas or Marine Parades; Unlicensed Person in Charge | 8,000
33 U.S.C. 1236(c) | Vessel Navigation: Regattas or Marine Parades; Owner Onboard Vessel | 8,000
33 U.S.C. 1236(d) | Vessel Navigation: Regattas or Marine Parades; Other Persons | 3,000
33 U.S.C. 1319 | Pollution Prevention | 40,000
33 U.S.C. 1319(2)(A) | Pollution Prevention (per violation) | 15,000
33 U.S.C. 1319(2)(A) | Pollution Prevention (Maximum—repeated violations) | 40,000
33 U.S.C. 1319(2)(B) | Pollution Prevention (per day of violation) | 15,000
33 U.S.C. 1319(2)(B) | Pollution Prevention (Maximum—repeated violations) | 190,000
33 U.S.C. 1321(b)(6)(B)(i) | Oil/Hazardous Substances: Discharges (Class I per violation) | 15,000
33 U.S.C. 1321(b)(6)(B)(i) | Oil/Hazardous Substances: Discharges (Class I total under paragraph) | 40,000
33 U.S.C. 1321(b)(6)(B)(ii) | Oil/Hazardous Substances: Discharges (Class II per day of violation) | 15,000
33 U.S.C. 1321(b)(6)(B)(ii) | Oil/Hazardous Substances: Discharges (Class II total under paragraph) | 190,000
33 U.S.C. 1321(b)(7)(A) | Oil/Hazardous Substances: Discharges (per day of violation) Judicial Assessment | 40,000
33 U.S.C. 1321(b)(7)(A) | Oil/Hazardous Substances: Discharges (per barrel of oil or unit discharged) Judicial Assessment | 1,100
33 U.S.C. 1321(b)(7)(B) | Oil/Hazardous Substances: Failure to Carry Out Removal/Comply With Order (Judicial Assessment) | 40,000
33 U.S.C. 1321(b)(7)(C) | Oil/Hazardous Substances: Failure to Comply with Regulation Issued Under 1321(j) (Judicial Assessment) | 40,000
33 U.S.C. 1321(b)(7)(D) | Oil/Hazardous Substances: Discharges, Gross Negligence (per barrel of oil or unit discharged) Judicial Assessment | 4,000
33 U.S.C. 1321(b)(7)(D) | Oil/Hazardous Substances: Discharges, Gross Negligence—Minimum Penalty (Judicial Assessment) | 130,000
33 U.S.C. 1322(j) | Marine Sanitation Devices; Operating | 3,000
33 U.S.C. 1322(j) | Marine Sanitation Devices; Sale or Manufacture | 8,000
33 U.S.C. 1608(a) | International Navigation Rules; Operator | 8,000
33 U.S.C. 1608(b) | International Navigation Rules; Vessel | 8,000
33 U.S.C. 1908(b)(1) | Pollution from Ships; General | 40,000
33 U.S.C. 1908(b)(2) | Pollution from Ships; False Statement | 8,000
33 U.S.C. 2072(a) | Inland Navigation Rules; Operator | 8,000
33 U.S.C. 2072(b) | Inland Navigation Rules; Vessel | 8,000
33 U.S.C. 2609(a) | Shore Protection; General | 40,000
33 U.S.C. 2609(b) | Shore Protection; Operating Without Permit | 15,000
33 U.S.C. 2716a(a) | Oil Pollution Liability and Compensation | 40,000
42 U.S.C. 9609(a) | Hazardous Substances, Releases, Liability, Compensation (Class I) | 35,000
42 U.S.C. 9609(b) | Hazardous Substances, Releases, Liability, Compensation (Class II) | 35,000
42 U.S.C. 9609(b) | Hazardous Substances, Releases, Liability, Compensation (Class II subsequent offense) | 100,000
42 U.S.C. 9609(c) | Hazardous Substances, Releases, Liability, Compensation (Judicial Assessment) | 35,000
42 U.S.C. 9609(c) | Hazardous Substances, Releases, Liability, Compensation (Judicial Assessment subsequent offense) | 100,000
46 U.S.C. App 1505(a)(2) | Safe Containers for International Cargo | 8,000
46 U.S.C. App 1712(a) | International Ocean Commerce Transportation—Common Carrier Agreements per violation | 6,000
46 U.S.C. App 1712(a) | International Ocean Commerce Transportation—Common Carrier Agreements per violation—Willfull violation | 30,000
46 U.S.C. App 1712(b) | International Ocean Commerce Transportation—`Common Carrier Agreements—Fine for tariff violation (per shipment) | 60,000
46 U.S.C. App 1805(c)(2) | Suspension of Passenger Service | 70,000
46 U.S.C. 2110(e) | Vessel Inspection or Examination Fees | 8,000
46 U.S.C. 2115 | Alcohol and Dangerous Drug Testing | 7,000
46 U.S.C. 2302(a) | Negligent Operations: Recreational Vessels | 6,000
46 U.S.C. 2302(a) | Negligent Operations: Other Vessels | 30,000
46 U.S.C. 2302(c)(1) | Operating a Vessel While Under the Influence of Alcohol or a Dangerous Drug | 7,000
46 U.S.C. 2306(a)(4) | Vessel Reporting Requirements: Owner, Charterer, Managing Operator, or Agent | 8,000
46 U.S.C. 2306(b)(2) | Vessel Reporting Requirements: Master | 1,100
46 U.S.C. 3102(c)(1) | Immersion Suits | 8,000
46 U.S.C. 3302(i)(5) | Inspection Permit | 1,100
46 U.S.C. 3318(a) | Vessel Inspection; General | 8,000
46 U.S.C. 3318(g) | Vessel Inspection; Nautical School Vessel | 8,000
46 U.S.C. 3318(h) | Vessel Inspection; Failure to Give Notice IAW 3304(b) | 1,100
46 U.S.C. 3318(i) | Vessel Inspection; Failure to Give Notice IAW 3309(c) | 1,100
46 U.S.C. 3318(j)(1) | Vessel Inspection; Vessel ≥ 1600 Gross Tons | 15,000
46 U.S.C. 3318(j)(1) | Vessel Inspection; Vessel < 1600 Gross Tons | 3,000
46 U.S.C. 3318(k) | Vessel Inspection; Failure to Comply with 3311(b) | 15,000
46 U.S.C. 3318(l) | Vessel Inspection; Violation of 3318(b)-3318(f) | 8,000
46 U.S.C. 3502(e) | List/count of Passengers | 110
46 U.S.C. 3504(c) | Notification to Passengers | 15,000
46 U.S.C. 3504(c) | Notification to Passengers; Sale of Tickets | 800
46 U.S.C. 3506 | Copies of Laws on Passenger Vessels; Master | 300
46 U.S.C. 3718(a)(1) | Liquid Bulk/Dangerous Cargo | 40,000
46 U.S.C. 4106 | Uninspected Vessels | 8,000
46 U.S.C. 4311(b)(1) | Recreational Vessels (maximum for related series of violations) | 300,000
46 U.S.C. 4311(b)(1) | Recreational Vessels; Violation of 4307(a) | 6,000
46 U.S.C. 4311(c) | Recreational Vessels | 1,100
46 U.S.C. 4507 | Uninspected Commercial Fishing Industry Vessels | 8,000
46 U.S.C. 4703 | Abandonment of Barges | 1,100
46 U.S.C. 5116(a) | Load Lines | 8,000
46 U.S.C. 5116(b) | Load Lines; Violation of 5112(a) | 15,000
46 U.S.C. 5116(c) | Load Lines; Violation of 5112(b) | 8,000
46 U.S.C. 6103(a) | Reporting Marine Casualties | 35,000
46 U.S.C. 6103(b) | Reporting Marine Casualties; Violation of 6104 | 8,000
46 U.S.C. 8101(e) | Manning of Inspected Vessels; Failure to Report Deficiency in Vessel Complement | 1,100
46 U.S.C. 8101(f) | Manning of Inspected Vessels | 15,000
46 U.S.C. 8101(g) | Manning of Inspected Vessels; Employing or Serving in Capacity not Licensed by USCG | 15,000
46 U.S.C. 8101(h) | Manning of Inspected Vessels; Freight Vessel < 100 GT, Small Passenger Vessel, or Sailing School Vessel | 1,100
46 U.S.C. 8102(a) | Watchmen on Passenger Vessels | 1,100
46 U.S.C. 8103(f) | Citizenship Requirements | 800
46 U.S.C. 8104(i) | Watches on Vessels; Violation of 8104(a) or (b) | 15,000
46 U.S.C. 8104(j) | Watches on Vessels; Violation of 8104(c), (d), (e), or (h) | 15,000
46 U.S.C. 8302(e) | Staff Department on Vessels | 110
46 U.S.C. 8304(d) | Officer's Competency Certificates | 110
46 U.S.C. 8502(e) | Coastwise Pilotage; Owner, Charterer, Managing Operator, Agent, Master or Individual in Charge | 15,000
46 U.S.C. 8502(f) | Coastwise Pilotage; Individual | 15,000
46 U.S.C. 8503 | Federal Pilots | 40,000
46 U.S.C. 8701(d) | Merchant Mariners Documents | 800
46 U.S.C. 8702(e) | Crew Requirements | 15,000
46 U.S.C. 8906 | Small Vessel Manning | 35,000
46 U.S.C. 9308(a) | Pilotage: Great Lakes; Owner, Charterer, Managing Operator, Agent, Master or Individual in Charge | 15,000
46 U.S.C. 9308(b) | Pilotage: Great Lakes; Individual | 15,000
46 U.S.C. 9308(c) | Pilotage: Great Lakes; Violation of 9303 | 15,000
46 U.S.C. 10104(b) | Failure to Report Sexual Offense | 8,000
46 U.S.C. 10314(a)(2) | Pay Advances to Seamen | 800
46 U.S.C. 10314(b) | Pay Advances to Seamen; Remuneration for Employment | 800
46 U.S.C. 10315(c) | Allotment to Seamen | 800
46 U.S.C. 10321 | Seamen Protection; General | 7,000
46 U.S.C. 10505(a)(2) | Coastwise Voyages: Advances | 7,000
46 U.S.C. 10505(b) | Coastwise Voyages: Advances; Remuneration for Employment | 7,000
46 U.S.C. 10508(b) | Coastwise Voyages: Seamen Protection; General | 7,000
46 U.S.C. 10711 | Effects of Deceased Seamen | 300
46 U.S.C. 10902(a)(2) | Complaints of Unfitness | 800
46 U.S.C. 10903(d) | Proceedings on Examination of Vessel | 110
46 U.S.C. 10907(b) | Permission to Make Complaint | 800
46 U.S.C. 11101(f) | Accommodations for Seamen | 800
46 U.S.C. 11102(b) | Medicine Chests on Vessels | 800
46 U.S.C. 11104(b) | Destitute Seamen | 110
46 U.S.C. 11105(c) | Wages on Discharge | 800
46 U.S.C. 11303(a) | Log Books; Master Failing to Maintain | 300
46 U.S.C. 11303(b) | Log Books; Master Failing to Make Entry | 300
46 U.S.C. 11303(c) | Log Books; Late Entry | 200
46 U.S.C. 11506 | Carrying of Sheath Knives | 80
46 U.S.C. 12151(a) | Documentation of Vessels (violation per day) | 15,000
46 U.S.C. 12151(c) | Engaging in Fishing After Falsifying Eligibility (fine per day) | 130,000
46 U.S.C. 12309(a) | Numbering of Undocumented Vessels—Willfull violation | 6,000
46 U.S.C. 12309(b) | Numbering of Undocumented Vessels | 1,100
46 U.S.C. 12507(b) | Vessel Identification System | 15,000
46 U.S.C. 14701 | Measurement of Vessels | 30,000
46 U.S.C. 14702 | Measurement; False Statements | 30,000
46 U.S.C. 31309 | Commercial Instruments and Maritime Liens | 15,000
46 U.S.C. 31330(a)(2) | Commercial Instruments and Maritime Liens; Mortgagor | 15,000
46 U.S.C. 31330(b)(2) | Commercial Instruments and Maritime Liens; Violation of 31329 | 35,000
46 U.S.C. 70119 | Port Security | 30,000
46 U.S.C. 70119(b) | Port Security—Continuing Violations | 50,000
49 U.S.C. 5123(a)(1) | Hazardous Materials: Related to Vessels—Maximum Penalty | 60,000
49 U.S.C. 5123(a)(1) | Hazardous Materials: Related to Vessels—Minimum Penalty | 300
49 U.S.C. 5123(a)(2) | Hazardous Materials: Related to Vessels—Penalty from Fatalities, Serious Injuries/Illness or substantial Damage to Property | 110,000
Note: The changes in Civil Penalties for calendar year 2011, shown above, are based on the change in CPI-U from June 2009 to June 2010. The recorded change in CPI-U during that period was 1.05%. Because of the small change in CPI-U and the required rules for rounding, there was no change to any of the maximum penalty amounts from the previous adjustment.
(1) Enacted under the Tariff Act of 1930, exempt from inflation adjustments.
(2) These penalties increased in accordance with the statute to $10,000 in 2005, $15,000 in 2006, $20,000 in 2007, and $25,000 in 2008 and thereafter.

PART 96—RULES FOR THE SAFE OPERATION OF VESSELS AND SAFETY MANAGEMENT SYSTEMS

5. The authority citation for part 96 continues to read as follows:

Authority: 46 U.S.C. 3201 et seq.; 46 U.S.C. 3103; 46 U.S.C. 3316, 33 U.S.C. 1231; 49 CFR 1.45, 49 CFR 1.46.

§ 96.495 [Amended]

6. In § 96.495(a), following the words “Commandant (CG-543)”, add the words “,2100 2nd Street, SW., Stop 7126, Washington, DC 20593-7126”.

PART 101—MARITIME SECURITY: GENERAL

7. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.105 [Amended]

8. In § 101.105, in the definition of “Secure area”, in the third sentence, following the words “subchapter located in”, remove the words “the Commonwealth of the Northern Mariana Islands and”.

PART 107—NATIONAL VESSEL AND FACILITY CONTROL MEASURES AND LIMITED ACCESS AREAS

9. The authority citation for part 107 continues to read as follows:

Authority: 50 U.S.C. 191, 192, 194, 195; 14 U.S.C. 141; Presidential Proclamation 6867, 61 FR 8843, 3 CFR, 1996 Comp., P. 8; Presidential Proclamation 7757, 69 FR 9515 (March 1, 2004); Secretary of Homeland Security Order 2004-001; Department of Homeland Security Delegation No. 0170.1; and 33 CFR 1.05-1.

§ 107.220 [Amended]

10. Amend § 107.220 as follows:

a. In paragraph (a): remove the word “Operations” wherever it appears, and add, in its place, the word “Response”; remove the word “(o)” wherever it appears, and add, in its place, the word “(dr)”; following the words “telephone (305) 415-”, remove the number “6920”, and add, in its place, the number “6800”; and following the words “facsimile (305) 415-”, remove the number “6925”, and add, in its place, the number “6809”; and

b. In paragraph (e), following the words “Guard District Commander”, remove the word “(o)”, and add, in its place, the word “(dr)”.

PART 115—BRIDGE LOCATIONS AND CLEARANCES; ADMINISTRATIVE PROCEDURES

11. The authority citation for part 115 continues to read as follows:

Authority: c. 425, sec. 9, 30 Stat. 1151 (33 U.S.C. 401); c. 1130, sec 1, 34 Stat. 84 (33 U.S.C. 491); sec. 5, 28 Stat. 362, as amended (33 U.S.C. 499); sec. 11, 54 Stat. 501, as amended (33 U.S.C. 521); c. 753, Title V, sec. 502, 60 Stat. 847, as amended (33 U.S.C. 525); 86 Stat. 732 (33 U.S.C. 535); 14 U.S.C. 633; sec. g(6), 80 Stat. 941 (49 U.S.C. 1655(g)); 49 CFR 1.46(c).

§ 115.05 [Amended]

12. In § 115.05, in the last sentence, remove the word “Especial” and add, in its place, the word “Special”; and, following the words “right of the”, remove the word “builder” and add, in its place, the word “applicant”.

13. In § 115.50, revise paragraph (a), remove paragraph (d), redesignate paragraphs (e) through (k) as paragraphs (d) through (j), and revise newly redesignated paragraphs (f), (h)(1), and (i) to read as follows:

§ 115.50 Application for bridge permits.

(a) Application. An application for authorization to construct a bridge across navigable waters of the United States must include the name, address, and telephone number of the applicant; the waterway and location of the bridge; a citation to the applicable act of Congress; when appropriate, a citation to the State legislation authorizing the bridge; a map of the location and plans of the bridge showing the features which affect navigation; and papers to establish the identity of the applicant.

* * * * *

(f) Plans. One reproducible set of plans must be submitted with the application, on which the location of the work and the essential features covered by the application will be identified. Each drawing must have a title block located in the lower right-hand corner identifying the applicant/agent and bridge owner; the waterway; the milepoint on the waterway of the bridge location; the city, county, and state of the bridge location; the name of the bridge; the date of the plans; the sheet number; and the total number of sheets in the set.

* * * * *

(h) Special instructions. (1) Vertical and horizontal distances will be shown using bar scales. The north and south line will be indicated by a meridian arrow. Soundings and elevations will be shown in feet and referred to the established Government datum plane at the locality.

* * * * *

(i) Structural details. Only those should be shown which are needed to illustrate the effect of the proposed structure on navigation. If the bridge is to be equipped with a draw, the latter will be shown in two positions: Closed and open. In those cases, the vertical and horizontal clearances shall be indicated in both the closed and open positions.

* * * * *

PART 117—DRAWBRIDGE OPERATION REGULATIONS

14. The authority citation for part 117 continues to read as follows:

Authority: 33 U.S.C. 499; 33 CFR 1.05-1; and Department of Homeland Security Delegation No. 0170.1.

§ 117.241 [Amended]

15. In § 117.241, following the words “draw of the”, remove the words “S14 Bridge”, and add, in their place, the words “Route 1/Rehoboth Blvd. Bridge”.

§ 117.438 [Amended]

16. In § 117.438(a), following the words “draw of the”, remove the words “S1 bridge”, and add, in their place, the words “LA1 bridge”.

§ 117.971 [Amended]

17. In § 117.971(a)(1)(i), following the words “Telephone at”, remove the number “1-877-829-6295” and add, in its place, the number “1-800-892-6295”.

§ 117.977 [Redesignated as § 117.966]

18a. Redesignate § 117.977 as § 117.966.

18b. In newly redesignated § 117.966, revise the section heading to read as follows:

§ 117.966 Galveston Channel.

* * * * *

PART 135—OFFSHORE OIL POLLUTION COMPENSATION FUND

19. The authority citation for part 135 continues to read as follows:

Authority: 33 U.S.C. 2701-2719; E.O. 12777, 56 FR 54757; Department of Homeland Security Delegation No. 0170.1, para. 2(80).

§ 135.103 [Amended]

20. In § 135.103(b), following the words “criteria of the”, remove the words “Minerals Management Service” and add, in their place, the words “Bureau of Ocean Energy Management, Regulation and Enforcement”.

PART 140—GENERAL

21. The authority citation for part 140 continues to read as follows:

Authority: 43 U.S.C. 1333, 1348, 1350, 1356; Department of Homeland Security Delegation No. 0170.1.

22. In § 140.10, remove the definition for “Minerals Management Service inspector or MMS inspector” and add, in alphabetical order, the definition for “Bureau of Ocean Energy Management, Regulation and Enforcement inspector or BOEMRE inspector” to read as follows:

§ 140.10 Definitions.

* * * * *

Bureau of Ocean Energy Management, Regulation and Enforcement inspector or BOEMRE inspector means an individual employed by the Bureau of Ocean Energy Management, Regulation and Enforcement who inspects fixed OCS facilities on behalf of the Coast Guard to determine whether the requirements of this subchapter are met.

* * * * *

§ 140.101 [Amended]

23. Amend § 140.101 as follows:

a. In the section heading, remove the words “Minerals Management Service” and add, in their place, the words “Bureau of Ocean Energy Management, Regulation and Enforcement”;

b. In paragraph (b), remove the words “Minerals Management Service (MMS)” and add, in their place, the words “Bureau of Ocean Energy Management, Regulation and Enforcement (BOEMRE)”; and

c. In paragraphs (c) and (d), remove the word “MMS” wherever it appears and add, in its place, the word “BOEMRE”.

§ 140.103 [Amended]

24. Amend § 140.103 as follows:

a. In paragraph (b), following the words “marine inspectors and”, remove the words “Minerals Management Service (MMS)” and add, in their place, the words “Bureau of Ocean Energy Management, Regulation and Enforcement (BOEMRE)”; and

b. In paragraph (c), remove the word “MMS” wherever it appears, and add, in its place, the word “BOEMRE”.

PART 148—DEEPWATER PORTS: GENERAL

25. The authority citation for part 148 continues to read as follows:

Authority: 33 U.S.C. 1504; Department of Homeland Security Delegation No. 0170.1 (75).

§ 148.3 [Amended]

26. In § 148.3(d), following the words “Corps of Engineers,” remove the words “Minerals Management Service (MMS)” and add, in their place, the words “Bureau of Ocean Energy Management, Regulation and Enforcement (BOEMRE)”.

§ 148.105 [Amended]

27. In § 148.105(o), following the words “established by the”, remove the words “Minerals Management Service” and add, in their place, the words “Bureau of Ocean Energy Management, Regulation and Enforcement”.

PART 150—DEEPWATER PORTS: OPERATIONS

28. The authority citation for part 150 continues to read as follows:

Authority: 33 U.S.C. 1231, 1321(j)(1)(C), (j)(5), (j)(6), (m)(2); 33 U.S.C. 1509(a); E.O. 12777, sec. 2; E.O. 13286, sec. 34, 68 FR 10619; Department of Homeland Security Delegation No. 0170.1(70), (73), (75), (80).

§ 150.815 [Amended]

29. In § 150.815(c), following the words “regulated by the”, remove the words “Minerals Management Service” and add, in their place, the words “Bureau of Ocean Energy Management, Regulation and Enforcement”.

§ 150.820 [Amended]

30. In § 150.820(d), following the words “the nearest regional”, remove the words “Minerals Management Service (MMS)” and add, in their place, the words “Bureau of Ocean Energy Management, Regulation and Enforcement (BOEMRE)”; and following the words “with an”, remove the word “MMS” and add, in its place, the word “BOEMRE”.

PART 151—VESSELS CARRYING OIL, NOXIOUS LIQUID SUBSTANCES, GARBAGE, MUNICIPAL OR COMMERCIAL WASTE, AND BALLAST WATER

31. The authority citation for part 151 continues to read as follows:

Authority: 33 U.S.C. 1321, 1902, 1903, 1908; 46 U.S.C. 6101; Pub. L. 104-227 (110 Stat. 3034); Pub. L. 108-293 (118 Stat. 1063), § 623; E.O. 12777, 3 CFR, 1991 Comp. p. 351; DHS Delegation No. 0170.1, sec. 2(77).

Appendix to Subpart D [Amended]

32. In the Appendix to Subpart D, in the last paragraph, remove the number “524”, and add, in its place, the number “5224”.

PART 160—PORTS AND WATERWAYS SAFETY—GENERAL

33. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

§ 160.7 [Amended]

34. In § 160.7(d), remove the words “Assistant Commandant for Prevention” wherever they appear, and add, in their place, the words “Assistant Commandant for Marine Safety, Security and Stewardship”; remove “(formerly known as the Assistant Commandant for Marine Safety, Security and Environmental Protection)”; and remove the number “7355” wherever it appears, and add, in its place, the number “7363”.

PART 161—VESSEL TRAFFIC MANAGEMENT

35. The authority citation for part 161 continues to read as follows:

Authority: 33 U.S.C. 1223, 1231; 46 U.S.C. 70114, 70119; Pub. L. 107-295, 116 Stat. 2064; Department of Homeland Security Delegation No. 0170.1.

§ 161.15 [Amended]

36. In § 161.15(a), following the words “track vessel movements”, add the words “within a”.

PART 162—INLAND WATERWAYS NAVIGATION REGULATIONS

37. The authority citation for part 162 continues to read as follows:

Authority: 33 U.S.C. 1231; Department of Homeland Security Delegation No. 0170.1.

§ 162.20 [Amended]

38. In § 162.20(b), following the words “All vessels traversing”, remove the word “in”.

§ 162.270 [Amended]

39. In § 162.270(b), following the words “unless specific permission”, remove the word “of”, and add, in its place, the word “to”.

PART 164—NAVIGATION SAFETY REGULATIONS

40. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.03 [Amended]

41. In § 164.03(a), following the words “Navigation Systems Division (CG-”, remove the number “5413”, and add, in its place, the number “553”; and remove the number “7355” wherever it appears, and add, in its place, the number “7580”.

§ 164.38 [Amended]

42. In § 164.38, remove and reserve paragraph (d)(2).

43. Revise § 164.41 to read as follows:

§ 164.41 Electronic position fixing devices.

(a) Each vessel calling at a port in the continental United States, including Alaska south of Cape Prince of Wales, except each vessel owned or bareboat chartered and operated by the United States, or by a state or its political subdivision, or by a foreign nation, and not engaged in commerce, must have a satellite navigation receiver with—

(1) Automatic acquisition of satellite signals after initial operator settings have been entered; and

(2) Position updates derived from satellite information during each usable satellite pass.

(b) A system that is found by the Commandant to meet the intent of the statements of availability, coverage, and accuracy for the U.S. Coastal Confluence Zone (CCZ) contained in the U.S. “Federal Radionavigation Plan” (Report No. DOD-NO 4650.4-P, I or No. DOT-TSC-RSPA-80-16, I). A person desiring a finding by the Commandant under this subparagraph must submit a written application describing the device to the Coast Guard Deputy Commander for Operations (CG-DCO), 2100 2nd St. SW., Stop 7471, Washington, DC 20593-7471. After reviewing the application, the Commandant may request additional information to establish whether or not the device meets the intent of the Federal Radionavigation Plan. Note: The Federal Radionavigation Plan is available from the National Technical Information Service, Springfield, Va. 22161, with the following Government Accession Numbers:

Vol 1, ADA 116468

Vol 2, ADA 116469

Vol 3, ADA 116470

Vol 4, ADA 116471

§ 164.72 [Amended]

44. In § 164.72(a)(6), following the words “position-fixing device,” remove the words “either a LORAN C receiver or”.

PART 166—SHIPPING SAFETY FAIRWAYS

45. The authority citation for part 166 continues to read as follows:

Authority: 33 U.S.C. 1223; 49 CFR 1.46.

§ 166.200 [Amended]

46. In § 166.200(d)(11), in the second table, in the first row and first column under “Latitude North”, remove the text “9°”, and add, in its place, the text “29°”.

PART 167—OFFSHORE TRAFFIC SEPARATION SCHEMES

47. The authority citation for part 167 continues to read as follows:

Authority: 33 U.S.C. 1223; Department of Homeland Security Delegation No. 0170.0.

§ 167.202 [Amended]

48. In § 167.202(b), in the table, remove the text “36°56.80′N”, and add, in its place, the text “36°56.90′N”.

PART 169—SHIP REPORTING SYSTEMS

49. The authority citation for part 169 continues to read as follows:

Authority: 33 U.S.C. 1230(d), 1231; 46 U.S.C. 70115, Department of Homeland Security Delegation No. 0170.1.

§ 169.15 [Amended]

50. In § 169.15(a), following the words “Navigation Systems (CG-”, remove the number “54132”, and add, in its place, the number “5532”; and remove the number “7581” wherever it appears, and add, in its place, the number “7580”.

Dated: May 24, 2011.
Kathryn Sinniger,
Chief, Office of Regulations and Administrative Law, United States Coast Guard.

[FR Doc. 2011-13320 Filed 6-1-11; 8:45 am]

BILLING CODE 9110-04-P